DEPARTMENT OF JUSTICE

Executive Office for Immigration Review

[EOIR No. 153]

Revised General Practice Regarding First Briefing Deadline Extension Request for Detained Aliens

AGENCY: Board of Immigration Appeals, Executive Office for Immigration Review, Department of Justice.

ACTION: Notice.

SUMMARY: This notice advises of a revised general practice to be followed by the Board of Immigration Appeals regarding briefing deadlines for cases before the Board in which the alien is detained. The additional time period granted for a first briefing extension will generally be reduced from 21 days to 15 days, and the number of extension requests granted will generally be reduced from one per party to one per case.

DATES: This notice is effective on August 14, 2006.

FOR FURTHER INFORMATION CONTACT: MaryBeth Keller, General Counsel, Executive Office for Immigration Review, 5107 Leesburg Pike, Suite 2600, Falls Church, Virginia 22041; telephone (703) 305-0470 (not a toll free call).

SUPPLEMENTARY INFORMATION: The Board of Immigration Appeals (Board) has the authority to set and extend briefing deadlines in all cases pending before it. 8 CFR 1003.3(c). The regulations state that in cases involving aliens in custody, the parties shall be provided 21 days in which to file simultaneous briefs unless a shorter period is specified by the Board. Id. In cases involving aliens who are not in custody, the briefing period is also 21 days, but the briefing period is sequential. Id. The regulations state that the Board, upon written motion, may extend the period for filing a brief for up to 90 days for good cause shown. Id. While the regulations do not limit the briefing extension period any further, the Board has established a policy for briefing extension requests in the Board of Immigration Appeals Practice Manual.\

The Board Practice Manual provides that the filing of an extension request does not automatically extend the briefing deadline, and until the Board affirmatively grants an extension request, the existing deadline still stands. Practice Manual Chapter 4.7(c). Prior to the publication of this Notice, the Practice Manual did not distinguish between detained and non-detained aliens with regard to briefing extension requests. The Practice Manual provided that, as a matter of policy, the Board would grant one extension per party, and that party was given an additional 21 days in which to file a briefs regardless of the time requested. Practice Manual Chapter 4.7(c)(i). Those 21 days were added to the original filing deadline for both parties.

In an effort to further reduce the amount of time a detained alien is in proceedings, the Board is revising this general policy and procedure. In the future, when an alien is in detention, the Board will, as a matter of policy and procedure, ordinarily grant one extension request per case for 15 days. A first extension request from either party, if granted, will extend the briefing deadline for both parties. If the opposing party thereafter submits an extension request, it will be considered a second extension request. As noted in the Board Practice Manual, second extension requests are only granted in rare circumstances. The Board's policy as set forth in Practice Manual Chapter 4.7(c)(i) will accordingly be amended to reflect this change.

At present, because briefing is simultaneous, extension requests from both parties are often filed within days of each other. The result is that the Board routinely and unnecessarily grants two extension requests. The Board's new general policy will be to limit briefing extensions to one per case for detained aliens due to difficulties with administering briefing requests from both parties. This change will eliminate these unintended delays. The Board will continue to accept reply briefs filed within 14 days after expiration of the briefing schedule, though the Board will not suspend or delay adjudication of the appeal in anticipation of the filing of a reply brief.

Dated: July 6, 2006.
Lori Scialabba,
Chairman, Board of Immigration Appeals.

[FR Doc. 06-6221 Filed 7-13-06; 8:45 am]

BILLING CODE 4410-30-M